DEPARTMENT OF COMMERCE

Foreign-Trade Zones Board

[B-74-2013]

Subzone 114F, Authorization of Production Activity, Easton-Bell Sports, Inc., (Sports Equipment), Rantoul, Illinois

On June 27, 2013, Easton-Bell Sports, Inc. submitted a notification of proposed production activity to the Foreign-Trade Zones (FTZ) Board for its facility within Subzone 114F, in Rantoul, Illinois.

The notification was processed in accordance with the regulations of the FTZ Board (15 CFR part 400), including notice in the Federal Register inviting public comment (78 FR 42930, 7-18-2013). The FTZ Board has determined that no further review of the activity is warranted at this time. The production activity described in the notification is authorized, subject to the FTZ Act and the Board's regulations, including Section 400.14. As noted in the request, textile bags (classified under HTSUS Subheading 4202.92) will be admitted to the subzone in privileged foreign status (19 CFR 146.41).

Dated: November 12, 2013.
Andrew McGilvray,
Executive Secretary.

[FR Doc. 2013-27422 Filed 11-14-13; 8:45 am]

BILLING CODE 3510-DS-P